FEDERAL COMMUNICATIONS COMMISSION

Notice of Public Information Collection(s) Being Reviewed by the Federal Communications Commission

August 23, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 4, 2002. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0075.

Title: Application for Consent to Assign Construction Permit or License for TV or FM Translator Station or Low Power Television Station or to Transfer Control of Entity Holding TV or FM Translator or Low Power Television Station.

Form No.: FCC Form 345.

Type of Review: Revision of a currently approved collection.

Respondents: Business or other for-profit, state, local or tribal governments.

Number of Respondents: 320.

Estimated Time Per Response: 8 hours (1 hour applicant burden; 7 hours contract attorney).

Frequency of Response: On occasion reporting requirement, recordkeeping requirement, and third party disclosure requirement.

Total Annual Burden: 320 hours.

Total Annual Cost: $516,140.

Needs and Uses: Filing of the FCC Form 345 is required when applying for authority for assignment of license or permit, or for consent to transfer of control of corporate licensee or permittee for an FM or TV translator station, or low power TV station. This information collection also includes a third party disclosure requirement of Section 73.3580. The form has been revised to include: (1) Agreements for sale/transfer of station must be submitted to the Commission; (2) the identification of the primary station proposed to be rebroadcast; and (3) adding the FCC Registration Number (FRN).

The data is used by FCC staff to determine if the applicant meets the basic statutory requirements to operate the station.

OMB Control No.: 3060-0072.

Title: Airborne Mobile Radio Telephone License Application.

Form No.: FCC Form 409.

Type of Review: Extension of a currently approved collection.

Respondents: Business or other for-profit.

Number of Respondents: 260.

Estimated Time Per Response: .084 hours or 5 minutes.

Frequency of Response: On occasion reporting requirement, and third party disclosure requirement.

Total Annual Burden: 22 hours.

Total Annual Cost: $13,000.

Needs and Uses: The FCC Form 409 is used when applying for authority to operate an airborne mobile radio telephone by individual users who intend to become subscribers to a common carrier service. The form is also used for modification and renewal of such licenses. The FCC Form 409 reporting requirement is necessary for the Commission to fulfill its regulatory responsibilities under the Communications Act of 1934, as amended.

Federal Communications Commission.
Marlene H. Dortch,
Secretary.

[FR Doc. 02-22505 Filed 9-3-02; 8:45 am]

BILLING CODE 6712-01-P